DEPARTMENT OF THE INTERIOR

Bureau of Land Management

[LLNV912000.L16400000.PH0000.006F; 10-08807; TAS: 14X1109]

Notice of Public Meeting: Resource Advisory Councils, Nevada

AGENCY: Bureau of Land Management, Interior.

ACTION: Notice of public meeting.

SUMMARY: In accordance with the Federal Land Policy and Management Act and the Federal Advisory Committee Act of 1972 (FACA), the Department of the Interior, Bureau of Land Management (BLM) Nevada will hold a joint meeting of its three Resource Advisory Councils (RACs), the Sierra Front-Northwestern Great Basin RAC, the Northeastern Great Basin RAC, and the Mojave-Southern Great Basin RAC in Elko, Nevada. The meeting is open to the public and a public comment period will be available.

Dates and Times: Thursday, November 19, 2009, from 8 a.m. to 5 p.m., and Friday,

November 20, 2009, from 8 a.m. to 12 p.m. A public comment period will be provided at 3 p.m. on Thursday, November 19.

FOR FURTHER INFORMATION CONTACT: Rochelle Ocava, telephone: (775) 861-6588, e-mail: rochelle_ocava@blm.gov.

SUPPLEMENTARY INFORMATION: The three 15-member Nevada councils advise the Secretary of the Interior, through the BLM Nevada State Director, on a variety of planning and management issues associated with public land management in Nevada. The meeting will be held at the Elko Convention Center, 700 Moren Way, Elko, Nevada. Agenda topics include a presentation and discussion of accomplishments during 2009 and the outlook for 2010 for the BLM in Nevada; opening remarks and closeout reports of the three RACs; breakout meetings of each group category; breakout meetings of the three RACs; discussion of a recreation subgroup of the existing RACs; and setting of schedules for meetings of the individual RACs for the upcoming year. An agenda will be available 30 days prior to the meeting at http://www.blm.gov/nv. The public may provide written comments to the three RAC groups or the individual RACs. Individuals who plan to attend and need further information about the meeting or need special assistance such as sign language interpretation or other reasonable accommodations may contact Rochelle Ocava.

Mike Holbert,
Deputy State Director, Nevada.

[FR Doc. E9-24348 Filed 10-7-09; 8:45 am]

BILLING CODE 4310-HC-P